DEPARTMENT OF COMMERCE

International Trade Administration

[A-570-139]

Mobile Access Equipment From the People's Republic of China: Notice of Court Decision Not in Harmony With the Final Determination of Antidumping Investigation; Notice of Amended Final Determination

AGENCY: Enforcement and Compliance, International Trade Administration, Department of Commerce.

SUMMARY: On December 11, 2025, the U.S. Court of International Trade (CIT) issued its final judgment in Coalition of American Manufacturers of Mobile Access Equipment v. United States, Court No. 22-00152, sustaining the U.S. Department of Commerce's (Commerce) final remand redetermination pertaining in the less-than-fair-value (LTFV) investigation of mobile access equipment (MAE) from the People's Republic of China (China) covering the period of investigation (POI) July 1, 2020, through December 31, 2020. Commerce is notifying the public that the CIT's final judgment is not in harmony with Commerce's final determination in that investigation, and that Commerce is amending the final determination and the resulting antidumping duty (AD) order with respect to the dumping margin for certain respondents eligible for a separate rate (i.e., Zhejiang Dingli Machinery Co., Ltd.; Hunan Sinoboom Intelligent Equipment Co., Ltd.; Mantall Heavy Industry Co., Ltd.; Noblelift Intelligent Equipment Co., Ltd.; Oshkosh JLG (Tianjin) Equipment Technology Co., Ltd.; Sany Marine Heavy Industry Co., Ltd.; Terex (Changzhou) Machinery Co., Ltd.; and Xuzhou Construction Machinery Group Imp. & Exp. Co., Ltd.). The merchandise exported by these exporters is included in the amended AD order.

DATES: Applicable December 22, 2025.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On February 22, 2022, Commerce published its Final Determination in the LTFV investigation of MAE from China.¹ On April 14, 2022, Commerce subsequently published the AD order on MAE from China.² The Coalition of American Manufacturers of Mobile Access Equipment appealed Commerce's Final Determination with respect to its surrogate values for ocean freight and certain minor fabricated steel parts.³

¹ See Certain Mobile Access Equipment and Subassemblies Thereof from the People's Republic of China: Final Affirmative Determination of Sales at Less Than Fair Value, 87 FR 9576 (February 22, 2022) (Final Determination), and accompanying Issues and Decision Memorandum (IDM).

² See Certain Mobile Access Equipment and Subassemblies Thereof from the People's Republic of China: Antidumping Duty Order, 87 FR 22190 (April 14, 2022) (Order).

³ See Coalition of American Manufacturers of Mobile Access Equipment v. United States, Court No. 22-00152, Complaint (ECF No. 8) (CIT June 13, 2022).

On May 31, 2024, the CIT remanded the Final Determination to Commerce, ordering Commerce to reconsider or further explain: (1) its determination as to ocean freight costs; and (2) its valuation of `minor fabricated steel components' (as that term was used in the Final Determination).⁴ In the Final Remand,⁵ Commerce reconsidered its determination and relied on Maersk data for ocean freight and Brazilian per-unit import average unit value for Harmonized System subheading 8431.20.90 for certain minor fabricated steel components.⁶

⁴ See Coalition of American Manufacturers of Mobile Access Equipment v. United States, Court No. 22-00152, Slip Op. 24-66 (CIT May 31, 2024).

⁵ See Final Results of Redetermination Pursuant to Court Remand, Coalition of American Manufacturers of Mobile Access Equipment v. United States, Court No. 22-00152, Slip Op. 24-66 (CIT October 28, 2024) (Final Remand).

⁶ Id.

On December 11, 2025, the CIT sustained Commerce's final remand redetermination.⁷

⁷ See Coalition of American Manufacturers of Mobile Access Equipment v. United States, Court No. 22-00152, Slip Op. 24-66 (CIT December 11, 2025).

Timken Notice

In its decision in Timken,⁸ as clarified by Diamond Sawblades,⁹ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's December 11, 2025, judgment constitutes a final decision of the CIT that is not in harmony with Commerce's Final Determination. Thus, this notice is published in fulfillment of the publication requirements of Timken.¹⁰

⁸ See Timken Co. v. United States, 893 F.2d 337 (Fed. Cir. 1990) (Timken).

⁹ See Diamond Sawblades Manufacturers Coalition v. United States, 626 F.3d 1374 (Fed. Cir. 2010) (Diamond Sawblades).

¹⁰ See Final Determination, 87 FR at 9576; see also Certain Mobile Access Equipment and Subassemblies Thereof from the People's Republic of China: Countervailing Duty Order and Amended Final Affirmative Countervailing Duty Determination, 86 FR 70439 (December 10, 2021).

Amended Final Determination

Because there is now a final court judgment, Commerce is amending its Final Determination with respect to the following exporter-producer combinations:

Exporter | Producer | Weighted- average dumping margin (percent ad valorem) | Cash deposit rate (adjusted for subsidy offsets) (percent ad valorem) ¹⁰
Zhejiang Dingli Machinery Co., Ltd | Zhejiang Dingli Machinery Co., Ltd | 37.20 | 37.04

Separate Rate Applicable to the Following Non-Selected Companies
Non-selected exporter receiving a separate rate | Producer supplying the non-selected exporter receiving a separate rate | Weighted- average dumping margin (percent) | Cash deposit rate (adjusted for subsidy offsets) (percent)
Hunan Sinoboom Intelligent Equipment Co., Ltd | Hunan Sinoboom Intelligent Equipment Co., Ltd | 56.50 | 56.33
Mantall Heavy Industry Co., Ltd | Mantall Heavy Industry Co., Ltd | 56.50 | 56.33
Noblelift Intelligent Equipment Co., Ltd | Noblelift Intelligent Equipment Co., Ltd | 56.50 | 56.33
Oshkosh JLG (Tianjin) Equipment Technology Co., Ltd | Noblelift Intelligent Equipment Co., Ltd | 56.50 | 56.33
Sany Marine Heavy Industry Co., Ltd | Sany Marine Heavy Industry Co., Ltd | 56.50 | 56.33
Terex (Changzhou) Machinery Co., Ltd | Terex (Changzhou) Machinery Co, Ltd | 56.50 | 56.33
Xuzhou Construction Machinery Group Imp. & Exp. Co., Ltd | Xuzhou Construction Machinery Group Fire-Fighting Safety Equipment Co., Ltd | 56.50 | 56.33

Cash Deposit Requirements

Commerce will issue revised cash deposit instructions to U.S. Customs and Border Protection for: (1) Hunan Sinoboom Intelligent Equipment Co., Ltd.; (2) Mantall Heavy Industry Co., Ltd.; (3) Noblelift Intelligent Equipment Co., Ltd.; (4) Oshkosh JLG (Tianjin) Equipment Technology Co., Ltd.; (5) Sany Marine Heavy Industry Co., Ltd.; (6) Terex (Changzhou) Machinery Co., Ltd.; (7) Xuzhou Construction Machinery Group Imp. & Exp. Co., Ltd.; and (8) Xuzhou Construction Machinery Group Fire-Fighting Safety Equipment Co., Ltd.

Because Zhejiang Dingli Machinery Co., Ltd., has a superseding cash deposit rate, i.e., there have been final results published in a subsequent administrative review,¹¹ Commerce will not issue revised cash deposit instructions for this company. This notice will not affect the current cash deposit rate for this company.

¹¹ See Certain Mobile Access Equipment and Subassemblies Thereof from the People's Republic of China: Final Results of Antidumping Duty Administrative Review; 2022-2023, 89 FR 88730 (November 8, 2024).

Notification to Interested Parties

This notice is issued and published in accordance with sections 516A(c) and (e) and 777(i)(1) of the Act.

Dated: December 23, 2025.
Abdelali Elouaradia,
Deputy Assistant Secretary for Enforcement and Compliance.

[FR Doc. 2025-24034 Filed 12-30-25; 8:45 am]

BILLING CODE 3510-DS-P